SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, requires federal agencies to publish a notice in the Federal Register concerning each proposed collection of information before submission to OMB, and to allow 60 days for public comment in response to the notice. This notice complies with that requirement.

DATES: Submit comments on or before December 23, 2019.

ADDRESSES: Send all comments to Sharon Gurley, Director Program Review, Office of Business Development, Small Business Administration, 409 3rd Street, 8th Floor, Washington, DC 20416.

FOR FURTHER INFORMATION CONTACT: Sharon Gurley, Director Program Review, Business Development, sharon.gurley@sba.gov, 202-205-7084, or Curtis B. Rich, Management Analyst, 202-205-7030, curtis.rich@sba.gov.

SUPPLEMENTARY INFORMATION: In accordance with Title 13 of the Code of Federal Regulations, Section 124.403, each 8(a) participant must annually review its business plan with the assigned Business Opportunity Specialist (BOS) and modify the plan, as appropriate, within 30 days after the close of each program year. The Participant must also submit a statement describing its current contract performance capabilities as part of its update business plan. SBA uses the information collected to assess the participant's financial condition and continued eligibility.

Summary of Information Collection:

Title: 8(a) Annual Update.

Description of Respondents: 8(a) Program Participants.

Form Number: SBA Form 1450.

Total Estimated Annual Responses: 5,399.

Total Estimated Annual Hour Burden: 8,096.

Curtis Rich,
Management Analyst.

[FR Doc. 2019-22928 Filed 10-21-19; 8:45 am]

BILLING CODE 8026-03-P